DEPARTMENT OF THE INTERIOR

Geological Survey

Request for Public Comments on Information Collection Submitted to OMB for Review Under the Paperwork Reduction Act

A request extending the information collection described below has been submitted to the Office of Management and Budget for approval under the provisions of the Paperwork Reduction Act (44 U.S.C. Chapter 35). Copies of the proposed collection of information may be obtained by contacting the Bureau's clearance officer at the phone number listed below. OMB has up to 60 days to approve or disapprove the information collection, but may respond after 30 days; therefore, comments on the proposal should be submitted to OMB within 30 days in order to assure their maximum consideration. Address your comments by either fax (202) 395-6566 or e-mail (oria_docket@omb.eop.gov) to the Office of Information and Regulatory Affairs, Office of Management and Budget, Attention: Desk Officer for the Interior Department (OMB Control Number 1028-0078). Send copies of your comments to the Bureau Clearance Officer, U.S. Geological Survey, 807 National Center, 12201 Sunrise Valley Drive, Reston, Virginia, 20192, or e-mail (jcordyac@usgs.gov), telephone (703) 648-7313.

As required by OMB regulations at 5 CFR 1320.8(d)(1), the U.S. Geological Survey solicits specific public comments as to:

1. Whether the collection of information is necessary for the proper performance of the functions on the bureaus, including whether the information will have practical utility;

2. The accuracy of the bureau's estimate of the burden of the collection of information, including the validity of the methodology and assumptions used:

3. The quality, utility, and clarity of the information to be collected; and

4. How to minimize the burden of the collection of information on those who are to respond, including the use of appropriate automated, electronic, mechanical, or other forms of information technology.

Title: North American Amphibian Monitoring Program.

Current OMB Approval Number: 1028-0078.

Summary: The North American Amphibian Monitoring Program (NAAMP) is a long-term, large-scale anuran (frog and toad) monitoring program to track the status and trends of eastern and central. Volunteers conduct calling surveys three to four times per year, depending on the regional species assemblage. Volunteers listen for 5 minutes at 10 stops along the route. Data are submitted electronically via the Internet or on hard copy. These data will be used to estimate population trends at various geographic scales and assist with documenting species distribution. NAAMP Web site is http://www.pwrc.usgs.giv/naamp/.

Estimated Annual Number of Respondents: 400.

Estimated Annual Burden Houses: 3600 hours.

Estimated Annual (Non-Hour) Cost Burden: The estimated annual (non-hour) cost burden per response is about $5.65 for a total annual burden of about $7,000. This is based on about 15 miles per survey route, times $0.375 per mile, times 1200 survey routes.

Affected Public: Primarily U.S. residents.

For Further Information Contact: To obtain copies of the survey, contact the Bureau clearance officer, U.S. Geological Survey, 807 National Center, 12201 Sunrise Valley Drive, Reston, Virginia, 20192, telephone (703) 648-7313.

Dated: February 15, 2005.
Susan Haseltine,
Associate Director for Biology.

[FR Doc. 05-3469 Filed 2-23-05; 8:45 am]

BILLING CODE 4310-Y7-M